DEPARTMENT OF TRANSPORTATION

Federal Aviation Administration

14 CFR Part 39

[Docket No. FAA-2017-0513; Directorate Identifier 2016-NM-152-AD]

RIN 2120-AA64

Airworthiness Directives; Dassault Aviation Airplanes

AGENCY: Federal Aviation Administration (FAA), DOT.

ACTION: Notice of proposed rulemaking (NPRM).

SUMMARY: We propose to adopt a new airworthiness directive (AD) for all Dassault Aviation Model FALCON 2000EX airplanes. This proposed AD was prompted by a quality review of delivered airplanes, which identified a manufacturing deficiency of some engine air inlet anti-ice “piccolo” tubes. This proposed AD would require inspecting each anti-ice “piccolo” tube assembly of certain engine air inlets for discrepancies, and doing corrective actions if necessary. We are proposing this AD to address the unsafe condition on these products.

DATES: We must receive comments on this proposed AD by July 17, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0513; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2017-0513; Directorate Identifier 2016-NM-152-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2016-0168, dated August 17, 2016 (referred to after this as the Mandatory Continuing Airworthiness Information, or “the MCAI”), to correct an unsafe condition for all Dassault Aviation Model FALCON 2000EX airplanes. The MCAI states:

A quality review of recently delivered aeroplanes identified a manufacturing deficiency of some engine air inlet anti-ice “piccolo” tubes.

This condition, if not detected and corrected, could lead to reduced performance of the engine anti-ice protection system, with consequent ice accretion and ingestion, possibly resulting in dual engine power loss and reduced control of an aeroplane.

The subsequent investigation demonstrated that, for engines equipped with an air inlet affected by the manufacturing deficiency, operating an engine at or above the minimum N1 value applicable for combined wing and engine anti-ice operations provides efficient engine anti-ice performance during stand-alone engine anti-ice operation.

To address this potential unsafe condition, EASA issued EASA AD 2015-0101-E (later revised) to require amendment of the applicable Aeroplane Flight Manual (AFM) for aeroplanes having engine air inlets Part Number (P/N) 06ND71600-1 not marked NORDAM Rework Kit (or “NRK”) on the associated data plate.

Since that [EASA] AD was issued, Dassault Aviation published Service Bulletin (SB) F2000EX-384 (later revised), providing instructions for a one-time inspection and applicable corrective actions, to recover the full operational capability of the aeroplanes equipped with affected parts.

For the reasons described above, this [EASA] AD supersedes EASA AD 2015-0102R1, retaining its requirements, [and] additionally requires a one-time inspection of each affected anti-ice “piccolo” tube assembly and, depending on findings, accomplishment of the applicable corrective actions. This [EASA] AD also prohibits installation of an affected part on an aeroplane.

The required actions include a detailed inspection and borescope inspection for discrepancies, which include determining if the opening diameter of the anti-ice tube assembly is incorrect or the perforation holes are blocked by residue. The corrective actions include repair or rework, if necessary. You may examine the MCAI in the AD docket on the Internet at http://www.regulations.gov by searching for and locating Docket No. FAA-2017-0513.

Other Related Rulemaking

On June 19, 2015, we issued AD 2015-13-08, Amendment 39-18195 (80 FR 37150, June 30, 2015) (“AD 2015-13-08”), applicable to all Dassault Aviation Model FALCON 2000EX airplanes. That AD requires revising the airplane flight manual to include a procedure for addressing minimum fan speed rotation (N1) values during stand-alone engine anti-ice system operation for engines equipped with certain air inlets. That AD was prompted by a quality review of certain delivered airplanes, which identified a manufacturing deficiency of some engine air inlet anti-ice “piccolo” tubes. The actions required by that AD are intended to detect and correct reduced performance of the engine anti-ice protection system, leading to ice accretion and ingestion into the engines, which could result in dual engine power loss and consequent reduced controllability of the airplane.

Actions Since Issuance of AD 2015-13-08

This NPRM would not supersede AD 2015-13-08. Rather, we have determined that a stand-alone AD would be more appropriate to address the changes in the MCAI. This NPRM would require inspections and corrective actions of the anti-ice “piccolo” tube assembly of the engine air inlet. Accomplishment of the actions specified in paragraph (g) of this proposed AD would then terminate all of the requirements of AD 2015-13-08.

Related Service Information Under 1 CFR Part 51

We reviewed Dassault Falcon 2000EX Service Bulletin F2000EX-384, Revision 1, dated March 1, 2016. This service information describes procedures for inspecting each anti-ice “piccolo” tube assembly of each engine air inlet for discrepancies, and corrective actions. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 181 airplanes of U.S. registry.

We estimate the following costs to comply with this proposed AD:

Estimated Costs
Action | Labor cost | Parts cost | Cost per product | Cost on U.S. operators
Inspection | 5 work-hours × $85 per hour = $425 | $0 | $425 | $76,925

We estimate the following costs to do any necessary rework that would be required based on the results of the proposed inspection. We have no way of determining the number of aircraft that might need these corrective actions:

On-Condition Costs
Action | Labor cost | Parts cost | Cost per product
Rework anti-ice tube assembly | 2 work-hours × $85 per hour = $170 | $1,711 | $1,881

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation: Docket No. FAA-2017-0513; Directorate Identifier 2016-NM-152-AD.

(a) Comments Due Date

We must receive comments by July 17, 2017.

(b) Affected ADs

This AD affects AD 2015-13-08, Amendment 39-18195 (80 FR 37150, June 30, 2015) (“AD 2015-13-08”).

(c) Applicability

This AD applies to all Dassault Aviation Model FALCON 2000EX airplanes, certificated in any category.

(d) Subject

Air Transport Association (ATA) of America Code 30, Ice and Rain Protection.

(e) Reason

This AD was prompted by a quality review of certain delivered airplanes, which identified a manufacturing deficiency of certain engine air inlet anti-ice “piccolo” tubes. We are issuing this AD to detect and correct discrepancies of each anti-ice “piccolo” tube assembly of certain engine air inlets; this condition could result in reduced performance of the engine anti-ice protection system, leading to ice accretion and ingestion into the engines, and possibly resulting in dual engine power loss and consequent reduced controllability of the airplane.

(f) Compliance

Comply with this AD within the compliance times specified, unless already done.

(g) Inspection

For airplanes other than those on which an engine air inlet having part number (P/N) 06ND71600-1, with a marking “NTR-RKFAL97” “NTR-RKFAL98,” “F2000EX-384,” or “F2000EX-384-R1” on the air inlet data plate has been incorporated on both engines: Within 1,300 flight hours or 26 months after the effective date of this AD, whichever occurs first; inspect each anti-ice “piccolo” tube assembly of each engine air inlet for discrepancies (i.e., an incorrect opening diameter of the anti-ice tube assembly or perforation holes blocked by residue), and do all applicable corrective actions, in accordance with the Accomplishment Instructions of Dassault Falcon 2000EX Service Bulletin F2000EX-384, Revision 1, dated March 1, 2016; except as required by paragraph (h) of this AD. Do all applicable corrective actions before further flight.

(h) Service Information Exception

Where Dassault Falcon 2000EX Service Bulletin F2000EX-384, Revision 1, dated March 1, 2016, specifies to contact Dassault for appropriate action: Before further flight, accomplish corrective actions in accordance with the procedures specified in paragraph (k)(2) of this AD.

(i) Terminating Action

Accomplishment of the actions required by paragraph (g) of this AD terminates all the requirements of AD 2015-13-08 for that airplane.

(j) Parts Installation Limitation

As of the effective date of this AD, installation of an engine air inlet having part number (P/N) 06ND71600-1 on any airplane is allowed, provided the engine air inlet data plate shows the marking “NTR-RKFAL97,” “NTR-RKFAL98,” “F2000EX-384,” or “F2000EX-384-R1.”

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(l) Related Information

(1) Refer to Mandatory Continuing Airworthiness Information (MCAI) EASA AD 2016-0168, dated August 17, 2016, for related information. This MCAI may be found in the AD docket on the Internet at http://www.regulations.gov by searching for and locating Docket No. FAA-2017-0513.

(2) For more information about this AD, contact Tom Rodriguez, Aerospace Engineer, International Branch, ANM-116, Transport Airplane Directorate, FAA, 1601 Lind Avenue SW., Renton, WA 98057-3356; telephone 425-227-1137; fax 425-227-1149.

(3) For service information identified in this AD, contact Dassault Falcon Jet, P.O. Box 2000, South Hackensack, NJ 07606; telephone 201-440-6700; Internet http://www.dassaultfalcon.com. You may view this service information at the FAA, Transport Airplane Directorate, 1601 Lind Avenue SW., Renton, WA. For information on the availability of this material at the FAA, call 425-227-1221.

Issued in Renton, Washington, on May 18, 2017.
Michael Kaszycki,
Acting Manager, Transport Airplane Directorate, Aircraft Certification Service.

[FR Doc. 2017-10980 Filed 5-30-17; 8:45 am]

BILLING CODE 4910-13-P